DEPARTMENT OF JUSTICE

Notice of Public Comment Period for Proposed Consent Decree Addendum Under the Clean Air Act

Under 28 CFR 50.7, notice is hereby given that, for a period of 30 days, the United States will receive public comments on a proposed Second Addendum to Consent Decree in United States v. Motiva Enterprises LLC, Civil Action No. H-01-0978, which was lodged with the United States District Court for the Southern District of Texas on August 4, 2003.

The original settlement, covering nine refineries, was lodged with the Court on March 21, 2001 and entered on August 21, 2001, as part of EPA's Petroleum Refinery Initiative. The proposed Addendum modifies the schedule for the installation of pollution control equipment and imposes more stringent emission limits on several processing units at the Delaware City refinery.

The Department of Justice will receive for a period of thirty (30) days from the date of this publication comments relating to the Second Addendum to Consent Decree. Comments should be addressed to the Assistant Attorney General, Environment and Natural Resources Division, P.O. Box 7611, U.S. Department of Justice, Washington, DC 20044-7611, and should refer to: United States v. Motiva Enterprises LLC., D.J. Ref. 90-5-2-1-07209.

The proposed Addendum may be examined at the Office of the United States Attorney, Southern District of Texas, U.S. Courthouse, 515 Rusk, Houston, Texas 77002, and at EPA Region 6, 1445 Ross Avenue, Dallas, Texas 75202. During the public comment period the Second Addendum to Consent Decree may also be examined on the following Department of Justice Web site, http://www.usdoj.gov/enrd/open.html. A copy of the Second Addendum to Consent Decree, may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.00 (25 cents per page reproduction cost) payable to the U.S. Treasury.

Robert D. Brook,
Assistant Chief, Environmental Enforcement Section, Environment and Natural Resources Division.

[FR Doc. 03-20668 Filed 8-12-03; 8:45 am]

BILLING CODE 4410-15-M